ENVIRONMENTAL PROTECTION AGENCY

40 CFR Part 52

[EPA-R03-OAR-2020-0319; FRL-10017-12-Region 3]

Air Plan Approval; Pennsylvania; 1997 8-Hour Ozone National Ambient Air Quality Standard Second Maintenance Plan for the York-Adams Area

AGENCY: Environmental Protection Agency (EPA).

ACTION: Proposed rule.

SUMMARY: The Environmental Protection Agency (EPA) is proposing to approve a state implementation plan (SIP) revision submitted by the Commonwealth of Pennsylvania. This revision pertains to the Commonwealth's plan, submitted by the Pennsylvania Department of Environmental Protection (PADEP), for maintaining the 1997 8-hour ozone national ambient air quality standard (NAAQS) (referred to as the “1997 ozone NAAQS”) in the York-Adams Area. This action is being taken under the Clean Air Act (CAA).

DATES: Written comments must be received on or before March 11, 2021.

ADDRESSES: Submit your comments, identified by Docket ID No. EPA-R03-OAR-2020-0319 at https://www.regulations.gov, or via email to gordon.mike@epa.gov. For comments submitted at Regulations.gov, follow the online instructions for submitting comments. Once submitted, comments cannot be edited or removed from Regulations.gov. For either manner of submission, EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the For Further Information Contact section. For the full EPA public comment policy, information about CBI or multimedia submissions, and general guidance on making effective comments, please visit https://www.epa.gov/dockets/commenting-epa-dockets.

FOR FURTHER INFORMATION CONTACT: Keila M. Pagán-Incle, Planning & Implementation Branch (3AD30), Air & Radiation Division, U.S. Environmental Protection Agency, Region III, 1650 Arch Street, Philadelphia, Pennsylvania 19103. The telephone number is (215) 814-2926. Ms. Pagán-Incle can also be reached via electronic mail at pagan-incle.keila@epa.gov.

SUPPLEMENTARY INFORMATION: On March 10, 2020, the PADEP submitted a revision to the Pennsylvania SIP to incorporate a plan for maintaining the 1997 ozone NAAQS through February 13, 2028 in accordance with CAA section 175A.

I. Background

In 1979, under section 109 of the CAA, EPA established primary and secondary NAAQS for ozone at 0.12 parts per million (ppm), averaged over a 1-hour period. 44 FR 8202 (February 8, 1979). On July 18, 1997 (62 FR 38856),¹ EPA revised the primary and secondary NAAQS for ozone to set the acceptable level of ozone in the ambient air at 0.08 ppm, averaged over an 8-hour period. EPA set the 1997 ozone NAAQS based on scientific evidence demonstrating that ozone causes adverse health effects at lower concentrations and over longer periods of time than was understood when the pre-existing 1-hour ozone NAAQS was set.

¹ In March 2008, EPA completed another review of the primary and secondary ozone standards and tightened them further by lowering the level for both to 0.075 ppm. 73 FR 16436 (March 27, 2008). Additionally, in October 2015, EPA completed a review of the primary and secondary ozone standards and tightened them by lowering the level for both to 0.70 ppm. 80 FR 65292 (October 26, 2015).

Following promulgation of a new or revised NAAQS, EPA is required by the CAA to designate areas throughout the nation as attaining or not attaining the NAAQS. On April 30, 2004 (69 FR 23858), EPA designated the York-Adams Area as nonattainment for the 1997 ozone NAAQS.

Once a nonattainment area has three years of complete and certified air quality data that has been determined to attain the NAAQS, and the area has met the other criteria outlined in CAA section 107(d)(3)(E),² the state can submit a request to EPA to redesignate the area to attainment. Areas that have been redesignated by EPA from nonattainment to attainment are referred to as “maintenance areas.” One of the criteria for redesignation is to have an approved maintenance plan, under CAA section 175A. The maintenance plan must demonstrate that the area will continue to maintain the standard for the period extending 10 years after redesignation, and it must contain such additional measures as necessary to ensure maintenance as well as contingency measures as necessary to assure that violations of the standard will be promptly corrected.

² The requirements of CAA section 107(d)(3)(E) include attainment of the NAAQS, full approval under section 110(k) of the applicable SIP, determination that improvement in air quality is a result of permanent and enforceable reductions in emissions, demonstration that the state has met all applicable section 110 and part D requirements, and a fully approved maintenance plan under CAA section 175A.

On January 14, 2008 (73 FR 2163 effective February 13, 2008), EPA approved a redesignation request (and maintenance plan) from PADEP for the York-Adams Area. In accordance with CAA section 175A(b), at the end of the eighth year after the effective date of the redesignation, the state must also submit a second maintenance plan to ensure ongoing maintenance of the standard for an additional 10 years.

EPA's final implementation rule for the 2008 ozone NAAQS revoked the 1997 ozone NAAQS and provided that one consequence of revocation was that areas that had been redesignated to attainment (i.e., maintenance areas) for the 1997 ozone NAAQS no longer needed to submit second 10-year maintenance plans under CAA section 175A(b).³ However, in South Coast Air Quality Management District v. EPA ⁴ (South Coast II), the United States Court of Appeals for the District of Columbia (D.C. Circuit) vacated EPA's interpretation that, because of the revocation of the 1997 ozone standard, second maintenance plans were not required for “orphan maintenance areas,” (i.e., areas like the York-Adams Area) that had been redesignated to attainment for the 1997 ozone NAAQS and were designated attainment for the 2008 ozone NAAQS. Thus, states with these “orphan maintenance areas” under the 1997 ozone NAAQS must submit maintenance plans for the second maintenance period.

³ See 80 FR 12315 (March 6, 2015).

⁴ 882 F.3d 1138 (D.C. Cir. 2018).

As previously discussed, CAA section 175A sets forth the criteria for adequate maintenance plans. In addition, EPA has published longstanding guidance that provides further insight on the content of an approvable maintenance plan, explaining that a maintenance plan should address five elements: (1) An attainment emissions inventory; (2) a maintenance demonstration; (3) a commitment for continued air quality monitoring; (4) a process for verification of continued attainment; and (5) a contingency plan. The 1992 Calcagni Memo ⁵ provides that states may generally demonstrate maintenance by either performing air quality modeling to show that the future mix of sources and emission rates will not cause a violation of the NAAQS or by showing that future emissions of a pollutant and its precursors will not exceed the level of emissions during a year when the area was attaining the NAAQS (i.e., attainment year inventory). See 1992 Calcagni Memo at p. 9. EPA further clarified in three subsequent guidance memos describing “limited maintenance plans” (LMPs) ⁶ that the requirements of CAA section 175A could be met by demonstrating that the area's design value ⁷ was well below the NAAQS and that the historical stability of the area's air quality levels showed that the area was unlikely to violate the NAAQS in the future. Specifically, EPA believes that if the most recent air quality design value for the area is at a level that is below 85% of the standard, or in this case below 0.071 ppm, then EPA considers the state to have met the section 175A requirement for a demonstration that the area will maintain the NAAQS for the requisite period. Accordingly, on March 10, 2020, PADEP submitted the York-Adams Area second maintenance plan, following the LMP guidance, and demonstrating that the area will maintain the 1997 ozone NAAQS through February 13, 2028, i.e., through the entire 20-year maintenance period.

⁵ “Procedures for Processing Requests to Redesignate Areas to Attainment,” Memorandum from John Calcagni, Director, Air Quality Management Division, September 4, 1992 (1992 Calcagni Memo).

⁶ See “Limited Maintenance Plan Option for Nonclassifiable Ozone Nonattainment Areas” from Sally L. Shaver, Office of Air Quality Planning and Standards (OAQPS), dated November 16, 1994; “Limited Maintenance Plan Option for Nonclassifiable CO Nonattainment Areas” from Joseph Paisie, OAQPS, dated October 6, 1995; and “Limited Maintenance Plan Option for Moderate PM10 Nonattainment Areas” from Lydia Wegman, OAQPS, dated August 9, 2001.

⁷ The ozone design value for a monitoring site is the 3-year average of the annual fourth-highest daily maximum 8-hour average ozone concentrations. The design value for an ozone nonattainment area is the highest design value of any monitoring site in the area.

II. Summary of SIP Revision and EPA Analysis

PADEP's March 10, 2020 SIP submittal outlines a plan for continued maintenance of the 1997 ozone NAAQS which addresses the criteria set forth in the Calcagni memo as follows.

A. Attainment Emissions Inventory

For maintenance plans, a state should develop a comprehensive and accurate inventory of actual emissions for an attainment year which identifies the level of emissions in the area which is sufficient to maintain the NAAQS. The inventory should be developed consistent with EPA's most recent guidance. For ozone, the inventory should be based on typical summer day's emissions of oxides of nitrogen (NOX) and volatile organic compounds (VOC), the precursors to ozone formation. In the first maintenance plan for the York-Adams Area, PADEP used 2004 for the attainment year inventory, because 2004 was one of the years in the 2004-2006 three-year period when the area first attained the 1997 ozone NAAQS.⁸ The York-Adams Area continued to monitor attainment of the 1997 ozone NAAQS in 2014. Therefore, the emissions inventory from 2014 represents emissions levels conducive to continued attainment (i.e., maintenance) of the NAAQS. Thus, PADEP is using 2014 as representing attainment level emissions for its second maintenance plan. Pennsylvania used 2014 summer day emissions from EPA's 2014 version 7.0 modeling platform as the basis for the 2014 inventory presented in Table 1.⁹

⁸ For more information, see EPA's October 24, 2007 notice proposing to redesignate the York (York and Adams Counties) Area to attainment for the 1997 8-hour ozone NAAQS (72 FR 60296).

⁹ For more information, visit https://www.epa.gov/sites/production/files/2018-11/ozone_1997_naaqs_emiss_inv_data_nov_19_2018_0.xlsx.

Table 1—2014 Typical Summer Day VOC and NOX Emissions (tons/day) for York-Adams Area
County | Source category | VOC emissions | NOX emissions
Adams | Point | 0.18 | 0.54
| Nonpoint | 6.16 | 1.23
| Onroad | 2.51 | 4.85
| Nonroad | 2.18 | 1.28
York | Point | 2.92 | 33.14
| Nonpoint | 22.55 | 6.18
| Onroad | 8.15 | 15.33
| Nonroad | 3.66 | 4.70
Total |  | 48.31 | 67.25

The data shown in Table 1 is based on the 2014 National Emissions Inventory (NEI) version 2.¹⁰ The inventory addresses four anthropogenic emission source categories: Stationary (point) sources, stationary nonpoint (area) sources, nonroad mobile, and onroad mobile sources. Point sources are stationary sources that have the potential to emit (PTE) more than 100 tons per year (tpy) of VOC, or more than 50 tpy of NOX, and which are required to obtain an operating permit. Data are collected for each source at a facility and reported to PADEP. Examples of point sources include kraft mills, electrical generating units (EGUs), and pharmaceutical factories. Nonpoint sources include emissions from equipment, operations, and activities that are numerous and in total have significant emissions. Examples include emissions from commercial and consumer products, portable fuel containers, home heating, repair, and refinishing operations, and crematories. The onroad emissions sector includes emissions from engines used primarily to propel equipment on highways and other roads, including passenger vehicles, motorcycles, and heavy-duty diesel trucks. The nonroad emissions sector includes emissions from engines that are not primarily used to propel transportation equipment, such as generators, forklifts, and marine pleasure craft. EPA reviewed the emissions inventory submitted by PADEP and proposes to conclude that the plan's inventory is acceptable for the purposes of a subsequent maintenance under CAA section 175A(b).

¹⁰ The NEI is a comprehensive and detailed estimate of air emissions of criteria pollutants, criteria precursors, and hazardous air pollutants from air emissions sources. The NEI is released every three years based primarily upon data provided by State, Local, and Tribal air agencies for sources in their jurisdictions and supplemented by data developed by EPA.

B. Maintenance Demonstration

In order to attain the 1997 ozone NAAQS, the three-year average of the fourth-highest daily average ozone concentrations (design value or “DV”) at each monitor within an area must not exceed 0.08 ppm. Based on the rounding convention described in 40 CFR part 50, appendix I, the standard is attained if the DV is 0.084 ppm or below. CAA section 175A requires a demonstration that the area will continue to maintain the NAAQS throughout the duration of the requisite maintenance period. Consistent with the prior guidance documents discussed previously in this document as well as EPA's November 20, 2018 “Resource Document for 1997 Ozone NAAQS Areas: Supporting Information for States Developing Maintenance Plans” (2018 Resource Document),¹¹ EPA believes that if the most recent DV for the area is well below the NAAQS (e.g. below 85%, or in this case below 0.071 ppm), the section 175A demonstration requirement has been met, provided that Prevention of Significant Deterioration (PSD) requirements, any control measures already in the SIP, and any Federal measures remain in place through the end of the second 10-year maintenance period (absent a showing consistent with section 110(1) that such measures are not necessary to assure maintenance).

¹¹ This resource document is included in the docket for this rulemaking available online at https://www.regulations.gov, Docket ID: EPA-R03-OAR-2020-0319 and is also available at https://www.epa.gov/sites/production/files/2018-11/documents/ozone_1997_naaqs_lmp_resource_document_nov_20_2018.pdf.

For the purposes of demonstrating continued maintenance with the 1997 ozone NAAQS, PADEP provided 3-year DVs for the York-Adams Area from 2007 to 2018. This includes DVs for 2005-2007, 2006-2008, 2007-2009, 2008-2010, 2009-2011, 2010-2012, 2011-2013, 2012-2014, 2013-2015, 2014-2016, 2015-2017, and 2016-2018, which are shown in Table 2 of this document.¹² In addition, EPA has reviewed the most recent ambient air quality monitoring data for ozone in the York-Adams Area, as submitted by Pennsylvania and recorded in EPA's Air Quality System (AQS). The most recent DV (i.e. 2017-2019) at monitors located in the York-Adams Area are also shown in Table 2.¹³ There currently are four operating monitoring sites in the York-Adams Area, two in York County and two in Adams County. Please note that a third monitor in Adams County (monitor 42-001-0002), was discontinued on July 31, 2011. As can be seen in Table 2 of this document, DVs at all monitors located in the York-Adams Area have been well below 85% of the 1997 ozone NAAQS (i.e., 0.071 ppm) since the 2012-2014 period. The highest DV for the 2017-2019 period at a monitor in the York-Adams Area is 0.064 ppm, which is well below 85% of the 1997 ozone NAAQS.

¹² See also Table II-2 of PADEP's March 10, 2020 submittal, included in the docket for this rulemaking available online at https://www.regulations.gov, Docket ID: EPA-R03-OAR-2020-0319.

¹³ This data is also included in the docket for this rulemaking available online at https://www.regulations.gov, Docket ID: EPA-R03-OAR-2020-0319 and is also available at https://www.epa.gov/air-trends/air-quality-design-values#report.

Table 2—Recent 1997 Ozone NAAQS Design Values (ppm) at Monitoring Sites in the York-Adams Area
County | AQS Site ID | 2005-2007 | 2006-2008 | 2007-2009 | 2008-2010 | 2009-2011 | 2010-2012 | 2011-2013 | 2012-2014 | 2013-2015 | 2014-2016 | 2015-2017 | 2016-2018 | 2017-2019
Adams | 42-001-0001 |  |  |  |  |  |  |  |  |  |  | ᵃ 0.066 | 0.067 | 0.064
Adams | 42-001-0002 | 0.078 | 0.077 | 0.073 | ᵇ 0.071 |  |  |  |  |  |  |  |  |
Adams | 42-001-9991 |  |  |  |  |  |  |  | ᶜ 0.067 | 0.065 | 0.067 | 0.066 | 0.066 | 0.062
York | 42-133-0008 | 0.083 | 0.080 | 0.077 | 0.074 | 0.071 | 0.073 | 0.072 | 0.069 | 0.066 | 0.066 | 0.066 | 0.065 | 0.063
York | 42-133-0011 |  |  |  | ᵈ 0.073 | 0.072 | 0.076 | 0.074 | 0.070 | 0.068 | 0.070 | 0.070 | 0.067 | 0.061
ᵃ Monitor 42-001-0001 began operation on November 1, 2014, with 2017 being the first valid DV.
ᵇ Monitor 42-001-0002 was discontinued on July 31, 2011, with 2010 being the last valid DV.
ᶜ Monitor 42-001-9991 began operation in January 2011, with 2014 being the first valid DV.
ᵈ Monitor 42-133-0011 began operation on April 22, 2008, with 2010 being the first valid DV.

Additionally, states can support the demonstration of continued maintenance by showing stable or improving air quality trends. According to EPA's 2018 Resource Document, several kinds of analyses can be performed by states wishing to make such a showing. One approach is to take the most recent DV for the area and add the maximum DV increase (over one or more consecutive years) that has been observed in the area over the past several years. A sum that does not exceed the level of the 1997 ozone NAAQS may be a good indicator of expected continue attainment. As shown in Table 2 in this document, the largest increases in DVs from 2007 to 2019 was 0.04 ppm, which occurred between the 2011-2013 (0.074 ppm) and 2012-2014 (0.070 ppm) DVs at the monitor located in York County (AQS ID 42-133-0011). Adding 0.004 ppm to the highest DV for the 2017-2019 period (0.064 ppm) results in 0.068 ppm, a sum that is still below the 1997 ozone NAAQS.

The York-Adams Area has maintained the air quality levels well below the 1997 ozone NAAQS since the Area first attained the NAAQS in 2006.¹⁴ Additional supporting information that the Area is expected to continue to maintain the standard can be found in projections of future year DVs that EPA recently completed to assist states with the development of interstate transport SIPs for the 2015 8-hour ozone NAAQS. Those projections, made for the year 2023, show that the average DV for the York-Adams Area is projected to be 0.058 ppm.¹⁵ Therefore, EPA proposes to determine that future violations of the 1997 ozone NAAQS in the York-Adams Area are unlikely.

¹⁴ As explained in EPA's October 24, 2007 notice proposing to redesignate the York-Adams Area as attainment for the 1997 ozone NAAQS (72 FR 60296), the 2004-2006 average DV for the York-Adams Area was 0.081 ppm.

¹⁵ See U.S. EPA, “Air Quality Modeling Technical Support Document for the Updated 2023 Projected Ozone Design Values”, Office of Air Quality Planning and Standards, dated June 2018, available at https://www.epa.gov/airmarkets/air-quality-modeling-technical-support-document-updated-2023-projected-ozone-design.

C. Continues Air Quality Monitoring and Verification of Continue Attainment

Once an area has been redesignated to attainment, the state remains obligated to maintain an air quality network in accordance with 40 CFR part 58, in order to verify the area's attainment status. In the March 10, 2020 submittal, PADEP commits to continue to operate their air monitoring network in accordance with 40 CFR part 58. PADEP also commits to track the attainment status of the York-Adams Area for the 1997 ozone NAAQS through the review of air quality and emissions data during the second maintenance period. This includes an annual evaluation of vehicles miles traveled (VMT) and stationary source emissions data compared to the assumptions included in the LMP. PADEP also states that it will also evaluate the periodic (i.e., every three years) emissions inventory prepared under EPA's Air Emission Reporting Requirements (40 CFR part 51, subpart A). Based on these evaluations, PADEP will consider whether any further emission control measures should be implemented for the York-Adams Area. EPA has analyzed the commitments in PADEP's submittal and is proposing to determine that they meet the requirements for continued air quality monitoring and verification of continued attainment.

D. Contingency Plan

The contingency plan provisions are designed to promptly correct or prevent a violation of the NAAQS that might occur after redesignation of an area to attainment. Section 175A of the CAA requires that a maintenance plan include such contingency measures as EPA deems necessary to assure that the state will promptly correct a violation of the NAAQS that occurs after redesignation. The maintenance plan should identify the contingency measures to be adopted, a schedule and procedure for adoption and implementation of the contingency measures, and a time limit for action by the state. The state should also identify specific indicators to be used to determine when the contingency measures need to be adopted and implemented. The maintenance plan must require that the state will implement all pollution control measures that were contained in the SIP before redesignation of the area to attainment. See section 175(A)(d) of the CAA.

PADEP's March 10, 2020 submittal includes a contingency plan for the York-Adams Area. In the event that the fourth highest 8-hour ozone concentrations at a monitor in the York-Adams Area exceeds 84 ppb (equivalent to 0.084 ppm) for two consecutive years, but prior to an actual violation of the NAAQS, PADEP will evaluate whether additional local emission control measures should be implemented that may prevent a violation of the NAAQS.¹⁶ After analyzing the conditions causing the excessive ozone levels, evaluating the effectiveness of potential corrective measures, and considering the potential effects of Federal, state, and local measures that have been adopted but not yet implemented, PADEP will begin the process of implementing selected measures so that they can be implemented as expeditiously as practicable following a violation of the NAAQS. In the event of a violation, PADEP commits to adopting additional emission reduction measures as expeditiously as practicable in accordance with the schedule included in the contingency plan as well as the CAA and applicable Pennsylvania statutory requirements.

¹⁶ A violation of the NAAQS occurs when an area's 3-year design value exceeds the NAAQS.

PADEP will use the following criteria when considering additional emission reduction measures to adopt to address a violation of the 1997 ozone NAAQS in the York-Adams Area: (1) Air quality analysis indicating the nature of the violation, including the cause, location, and source; (2) emission reduction potential, including extent to which emission generating sources occur in the nonattainment area; (3) timeliness of implementation in terms of the potential to return the area to attainment as expeditiously as practicable; and (4) costs, equity, and cost-effectiveness. The measures PADEP would consider pursuing for adoption in the York-Adams Area include, but are not limited to, those summarized in Table 3 of this document. If additional emission reductions are necessary, PADEP commits to adopt additional emission reduction measures to attain and maintain the 1997 ozone NAAQS.

¹⁷ These regulatory measures were considered potential cost-effective and timely control strategies by the Ozone Transport Commission (OTC) as well as the Mid-Atlantic Regional Air Management Association and the Mid-Atlantic/Northeast Visibility Union. The OTC is a multi-state organization responsible for developing regional solutions to ground-level ozone pollution in the Northeast and Mid-Atlantic, including the development of model rules that member states may adopt. OTC member states include: Connecticut, Delaware, the District of Columbia, Maine, Maryland, Massachusetts, New Hampshire, New Jersey, New York, Pennsylvania, Rhode Island, Vermont, and Virginia. For more information on the OTC, visit https://otcair.org/index.asp. To view the model rules developed by the OTC, including those for consumer products and portable fuel containers, visit https://otcair.org/document.asp?fview=modelrules.

¹⁸ Pennsylvania's existing controls on consumer products are under 25 Pa. Code Chapter 130, Subchapters B and C (38 Pa.B. 5598). This contingency measure includes the adoption of additional controls on consumer products such as VOC limits for adhesive removers.

¹⁹ Existing controls on portable fuel containers can be found under 40 CFR 59 subpart F—Control of Evaporative Emissions from New and In-Use Portable Fuel Containers.

Table 3—York-Adams Area Second Maintenance Plan Contingency Measures
Non-Regulatory Measures:
Voluntary diesel engine “chip reflash” (installation software to correct the defeat device option on certain heavy-duty diesel engines).
Diesel retrofit (including replacement, repowering or alternative fuel use) for public or private local onroad or offroad fleets.
Idling reduction technology for Class 2-yard locomotives.
Idling reduction technologies or strategies for truck stops, warehouses and other freight-handling facilities.
Accelerated turnover of lawn and garden equipment, especially commercial equipment, including promotion of electric equipment.
Additional promotion of alternative fuel (e.g. biodiesel) for home hearing and agricultural use.
Regulatory Measures: ¹⁷
Additional control on consumer products.¹⁸
Additional controls on portable fuel containers.¹⁹

The contingency plan includes schedules for the adoption and implementation of both non-regulatory and regulatory contingency measures, including schedules for adopting potential land use planning strategies not listed in Table 3, which are summarized in Tables 4 and 5, respectively.

Table 4—Implement Schedule for York-Adams Area Non-Regulatory Contingency Measures
Time after triggering event | Action
Within 2 months | PADEP will identify stakeholders for potential non-regulatory measures for further development.
Within 3 months | If funding is necessary, PADEP will identify potential sources of funding and the timeframe for when funds would be available.
Within 6 months | PADEP will work with the relevant planning commission(s) to identify potential land use planning strategies and projects with quantifiable and timely emission benefits. PADEP will also work with the Pennsylvania Department of Community and Economic Development and other state agencies to assist with these measures.
Within 9 months | If state loans or grants are required, PADEP will enter into agreements with implementing organizations. PADEP will also quantify projected emission benefits.
Within 12 months | PADEP will submit revised SIP to EPA.
Within 12-24 months | PADEP will implement strategies and projects.

Table 5—Implementation Schedule for York-Adams Area Regulatory Contingency Measures
Time after triggering event | Action
Within 1 months | PADEP will submit request to begin regulatory development process.
Within 3 months | Request will be reviewed by the Air Quality Technical Advisory Committee (AQTAC), Citizens Advisory Council, and other advisory committees as appropriate.
Within 6 months | Environmental Quality Board (EQB) meeting/action.
Within 8 months | PADEP will publish regulatory measure in the Pennsylvania Bulleting for comment as proposed rulemaking.
Within 10 months | PADEP will hold a public hearing and comment period on proposed rulemaking.
Within 11 months | House and Senate Standing Committee and Independent Regulatory Review Commission (IRCC) comment on proposed rulemaking.
Within 13 months | AQTAC, Citizens Advisory Council, and other committees will review responses to comment(s), if applicable, and the draft final rulemaking.
Within 16 months | EQB meeting/action.
Within 17 months | The IRCC will take action on final rulemaking.
Within 18 months | Attorney General's review/action.
Within 19 months | PADEP will publish the regulatory measure as a final rulemaking in the Pennsylvania Bulletin and submit to EPA as a SIP revision. The regulation will become effective upon publication in the Pennsylvania Bulletin.

EPA proposes to find that the contingency plan included in PADEP's March 10, 2020 submittal satisfies the pertinent requirements of CAA section 175A(d). EPA notes that while six of the potential contingency measures included in the Commonwealth's second maintenance plan are non-regulatory, their inclusion among other measures is overall SIP-strengthening, and their inclusion does not alter EPA's proposal to find the LMP is fully approvable. EPA also finds that the submittal acknowledges Pennsylvania's continuing requirement to implement all pollution control measures that were contained in the SIP before redesignation of the York-Adams Area to attainment.

E. Transportation Conformity

Transportation conformity is required by section 176(c) of the CAA. Conformity to a SIP means that transportation activities will not produce new air quality violations, worsen existing violations, or delay timely attainment of the NAAQS (CAA 176(c)(1)(B)). EPA's conformity rule at 40 CFR part 93 requires that transportation plans, programs, and projects conform to SIPs and establish the criteria and procedures for determining whether or not they conform. The conformity rule generally requires a demonstration that emissions from the Regional Transportation Plan (RTP) and the Transportation Improvement Program (TIP) are consistent with the motor vehicle emissions budget (MVEB) contained in the control strategy SIP revision or maintenance plan (40 CFR 93.101, 93.118, and 93.124). A MVEB is defined as “that portion of the total allowable emissions defined in the submitted or approved control strategy implementation plan revision or maintenance plan for a certain date for the purpose of meeting reasonable further progress milestones or demonstrating attainment or maintenance of the NAAQS, for any criteria pollutant or its precursors, allocated to highway and transit vehicle use and emissions (40 CFR 93.101).”

Under the conformity rule, LMP areas may demonstrate conformity without a regional emission analysis (40 CFR 93.109(e)). However, because LMP areas are still maintenance areas, certain aspects of transportation conformity determinations still will be required for transportation plans, programs, and projects. Specifically, for such determination, RTPs, TIPs and transportation projects still will have to demonstrate that they are fiscally constrained (40 CFR 93.108), meet the criteria for consultation (40 CFR 93.105 and 93.112) and transportation control measure implementation in the conformity rule provisions (40 CFR 93.113).

Additionally, conformity determinations for RTPs and TIPs, must be determined no less frequently than every four years, and conformity of transportation plan and TIP amendments and transportation projects is demonstrated in accordance with the timing requirements specified in 40 CFR 93.104. In addition, for projects to be approved, they must come from a currently conforming RTP and TIP (40 CFR 93.114 and 93.115). The York-Adams Area remains under the obligation to meet the applicable conformity requirements for the 1997 ozone NAAQS.

III. Proposed Action

EPA's review of PADEP's March 10, 2020 submittal indicates that York-Adams Area second maintenance plan meets the CAA section 175A and all applicable CAA requirements. EPA is proposing to approve the second maintenance plan for the York-Adams Area as a revision to the Commonwealth of Pennsylvania SIP. EPA is soliciting public comments on the issues discussed in this document. These comments will be considered before taking final action.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because it is not a significant regulatory action under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rulemaking, proposing approval of Pennsylvania's second maintenance plan for the York-Adams Area, does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Incorporation by reference, Nitrogen dioxide, Ozone, Volatile organic compounds.

Dated: February 3, 2021.
Diana Esher,
Acting Regional Administrator, Region III.

[FR Doc. 2021-02581 Filed 2-8-21; 8:45 am]

BILLING CODE 6560-50-P